DEPARTMENT OF HEALTH AND HUMAN SERVICES

Performance Review Board Members

Title 5, U.S.C. 4314(c) (4) of the Civil Service Reform Act of 1978, Public Law 95-454, requires that the appointment of Performance Review Members be published in the Federal Register.

The following persons may be named to serve on the Performance Review Boards or Panels, which oversee the evaluation of performance appraisals of Senior Executive Service members of the Department of Health and Human Services:

Last name | First name
Avula | Deepa
Corierre | Michael
Del Vecchio | Paolo
Enomoto | Kana
Etzinger | Michael
Feit | Monica
Goldstein | Gregory
Harding | Frances
Hendriksson | Marla
Johnson | Kimberly
Kade | Daryl
Lopez | Elizabeth
Power | Kathryn
Wheeles | Timothy (NIH)

Michael Etzinger,
Executive Officer and Director, Office of Management, Technology and Operations.
Carlos Castillo,
SAMHSA Committee Management Officer, Office of Policy, Planning and Innovation.

[FR Doc. 2016-25099 Filed 10-17-16; 8:45 am]

BILLING CODE 4151-17-P